DEPARTMENT OF LABOR

Employment and Training Administration

[TA-W-58,894A]

Russell Corporation, Atlanta, GA; Affirmative Determinations for Worker Adjustment Assistance and Alternative Trade Adjustment Assistance; Correction

This notice rescinds the notice of certification of eligibility to apply for Alternative Trade Adjustment Assistance applicable to TA-W-58,894A, which was published in the Federal Register on May 10, 2006 (71 FR Document E6-7123, Billing Code 4510-30-P.

This rescinds the certification of eligibility for workers of TA-W-58,894A, to apply for Alternative Trade Adjustment Assistance and confirms eligibility to apply for Worker Adjustment Assistance as identified on page 27291 in the first column, the seventeenth TA-W-number listed.

The Department appropriately published in the Federal Register May 10, 2006, page 27292, under the notice of Negative Determinations for Alternative Trade Adjustment Assistance, the denial of eligibility applicable to workers of TA-W-58,894A. The notice appears on page 27292 in the first column, the thirteenth TA-W-number listed.

Signed in Washington, DC, this 10th day of August 2006.
Erica R. Cantor,
Director, Division of Trade Adjustment Assistance.

[FR Doc. E6-13520 Filed 8-15-06; 8:45 am]

BILLING CODE 4510-30-P